SECURITIES AND EXCHANGE COMMISSION

[OMB Control No. 3235-0378]

Proposed Collection; Comment Request; Extension: Form F-8-Registration Statement

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget (“OMB”) for extension and approval.

Form F-8 (17 CFR 239.38) may be used by certain Canadian issuers for registration under the Securities Act of 1933 (15 U.S.C. 77a et seq.) (“Securities Act”) in connection with exchange offers and certain business combinations. Form F-8 provides investors with information important to investment decision making while also promoting capital formation by reducing the cost and increasing the efficiency of Securities Act registration in connection with exchange offers and business combination transactions, which may encourage Canadian issuers to extend exchange offers and business combinations to U.S. securityholders. We estimate that Form F-8 takes approximately one hour per response to prepare and is filed by approximately one respondent annually. We estimate that 25% of the collection of information burden is carried by the issuer. For total paperwork burden hours, where our calculations produced a number less than one, we have used an estimate of one for total burden hours. We estimate a total annual reporting burden of one hour (.25 hours × 1 response annually = .25 hours, rounded to 1 hour). We estimate that 75% of the one hour per response (.75 hours) is carried by outside professionals retained by the issuer at an estimated cost of $600 per hour, for a total annual cost burden of $450 (.75 hours per response × $600 per hour × 1 response annually).

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by September 8, 2025. There will be a second opportunity to comment on this SEC request following the Federal Register publishing a 30-Day Submission Notice.

Dated: July 2, 2025.
Sherry R. Haywood,
Assistant Secretary.

[FR Doc. 2025-12619 Filed 7-7-25; 8:45 am]

BILLING CODE 8011-01-P